DEPARTMENT OF THE INTERIOR

Bureau of Land Management

[CO-500-0777-XM-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held May 18, 2004 from 9:15 a.m. to 4:30 p.m. and will continue on May 19, 2004 from 8 a.m. to 3 p.m.

ADDRESSES: Inn of the Rio Grande, 333 Santa Fe Avenue, Alamosa, CO 81101.

FOR FURTHER INFORMATION CONTACT: Ken Smith, (719) 269-8500.

SUPPLEMENTARY INFORMATION: The 15 member Council advises the Secretary of the Interior, through the Bureau of Land Management, on a variety of planning and management issues associated with public land management in the Front Range Center, Colorado. Planned agenda topics on May 18 include: Manager updates on current land management issues; San Luis Valley Travel Management Planning; Healthy Forest Assessment; and Fuels Treatment Projects. On May 19 the Council will tour and discuss issues at the Blanca Wetlands and Zapata Falls Recreation Site.

All meetings are open to the public. The public is encouraged to make oral comments to the Council at 9:30 a.m. on May 18, 2004 or written statements may be submitted for the Councils consideration. Depending on the number of persons wishing to comment and time available, the time for individual oral comments may be limited. The public is also welcome to attend the field tour on May 19, however they may need to provide their own transportation. Summary minutes for the Council Meeting will be maintained in the Front Range Center Office and will be available for public inspection and reproduction during regular business hours within thirty (30) days following the meeting. Meeting Minutes are also available at: http://www.blm.gov/rac/co/frrac/co_fr.htm.

Dated: April 6, 2004.
Linda McGlothlen,
Acting Front Range Center Manager.

[FR Doc. 04-8186 Filed 4-9-04; 8:45 am]

BILLING CODE 4310-JB-P